POSTAL REGULATORY COMMISSION

[Docket No. N2024-1; Order No. 8167]

Service Standard Changes

AGENCY: Postal Regulatory Commission.

ACTION: Notice.

SUMMARY: The Commission is acknowledging a recently-filed Postal Service request for an advisory opinion regarding planned changes to its processing and transportation networks. This document invites public comments on the request and addresses several related procedural steps.

DATES: Notice of intent to file a rebuttal: November 22, 2024; Hearing: December 4, 2024, at 10:00 a.m., Eastern Daylight Time, Virtual.

ADDRESSES: Submit notices electronically via the Commission's Filing Online system at http://www.prc.gov. Persons interested in intervening who cannot submit their views electronically should contact the person identified in the FOR FURTHER INFORMATION CONTACT: David A. Trissell, General Counsel, at 202-789-6820.

SUPPLEMENTARY INFORMATION:

Table of Contents

I. Introduction

II. The Motions for Late Acceptance

III. Notice of Hearing, Scheduling Witnesses, Excusing Witnesses, Setting Hearing Procedures, and Adjusting Procedural Schedule

IV. Ordering Paragraphs

I. Introduction

On November 24, 2024, Douglas F. Carlson filed, and on November 25, 2024, the Commission docketed, a Motion for Late Acceptance of Notice of Intent to File Rebuttal Case ¹ and corresponding Notice of Intent to File a Rebuttal Case.² On November 25, 2024, the American Postal Workers Union (APWU) filed a Motion for Late Acceptance of Notice of Intent to File Rebuttal Testimony ³ and corresponding Notice of Intent to File Rebuttal Testimony.⁴ These motions are granted. In addition, the Commission provides notice of the hearing, sets hearing procedures, modifies the deadline for registration for the hearing, and adjusts the procedural schedule.

¹ Douglas F. Carlson Motion for Late Acceptance of Notice of Intent to File Rebuttal Case, November 25, 2024 (Carlson Motion).

² Douglas F. Carlson Notice of Intent to File Rebuttal Case, November 25, 2024 (Carlson Notice).

³ American Postal Workers Union, AFL-CIO Motion for Late Acceptance of Notice of Intent to File Rebuttal Testimony, November 25, 2024 (APWU Motion).

⁴ American Postal Workers Union, AFL-CIO Notice of Intent to File Rebuttal Testimony, November 25, 2024 (APWU Notice).

II. The Motions for Late Acceptance

Mr. Carlson requests that the Commission excuse his failure to timely file his notice because the procedural schedule listed on the Commission's website differed from those set by order. Carlson Motion at 1-2. The Commission recognizes that the information previously presented on the procedural schedule on the website conflicted with the deadlines set forth in Order No. 7695 ⁵ and Order No. 7998.⁶ The Commission further recognizes that in Order No. 7998, the Commission unilaterally modified the procedural schedule by moving a deadline up to better support the in-person hearing in this proceeding. Order No. 7998 at 2. Therefore, the Commission grants Mr. Carlson's motion.

⁵ Notice and Order on the Postal Service's Request for an Advisory Opinion on Changes in the Nature of Postal Services, October 9, 2024 (Order No. 7695).

⁶ Order Establishing Hearing Procedures, November 15, 2024 (Order No. 7998).

APWU similarly states that its filing was delayed because it relied on the procedural schedule set forth in Order No. 7695. APWU Motion at 1. For the reasons expressed above, the Commission also grants the APWU Motion.

The Commission is acting expeditiously on these motions because of the pending holiday and the fact that the hearing is 4 business days from today. The Postal Service will be permitted to conduct discovery and written cross-examination on Mr. Carlson's and APWU's rebuttal testimony. The Postal Service may request oral cross-examination but must provide justification for the request.

III. Notice of Hearing, Scheduling Witnesses, Excusing Witnesses, Setting Hearing Procedures, and Adjusting Procedural Schedule

Additionally, although the Commission previously stated that hearings with a rebuttal case would occur December 11 to 13, 2024,⁷ given Mr. Carlson's indication that he cannot appear in person at the hearings, the Commission hereby gives notice that a hearing on the Postal Service's direct case in the above-captioned docket shall commence at 10 a.m. ET on Wednesday, December 4, 2024. Pursuant to Order No. 7998, the hearing will be conducted in person at 901 New York Avenue NW, Suite 200, Washington, DC 20268. The hearing shall be available by livestream at www.youtube.com/@thepostalregulatorycommiss9709.⁸

⁷ See Order No. 7998, Attachment 1 at 2; Order No. 7695, Attachment 1 at 2.

⁸ The livestream will only allow participants to view, but not interact with, the live hearing taking place at the Commission's hearing room. Registration is not required to access the livestream.

Furthermore, the Commission modifies the registration deadline for the hearing. Each individual seeking to attend the live hearing (including motions practice or may conduct cross-examination or follow-up cross-examination) must register by sending an email to registration@prc.gov with the subject line “N2024-1 Hearing Registration” by Monday, December 2, 2024.⁹ Please ensure the email contains the following information:

⁹ The Commission previously set the deadline as November 22, 2024. See Order No. 7998 at 3-4.

• your first and last name;

• your email address; and

• your affiliation.

The registration@prc.gov email address is used solely for the exchange of information relating to the logistics of registering for and participating in the hearing.¹⁰ No information related to the substance of the cases shall be provided or communicated via that email.

¹⁰ Please refer to the Commission's privacy policy which is available at https://www.prc.gov/privacy.

The Postal Service's witnesses shall appear on December 4, 2024, at 10:00 a.m. ET. The order of the witnesses is as follows:

• Stephen B. Hagenstein (USPS-T-1)

• Arslan Saleem (USPS-T-2)

• Leslie Johnson-Frick (USPS-T-3)

• Gregory White (USPS-T-4)

• Curtis Whiteman (USPS-T-5) or witness with equivalent knowledge ¹¹

¹¹ If a witness with equivalent knowledge appears for Mr. Whiteman, the Postal Service should be prepared to admit Mr. Whiteman's testimony by motion. Additionally, if the witness with equivalent knowledge is unable to answer certain oral cross-examination questions, the Commission reserves the right to require Mr. Whiteman to supplement, in writing, with answers to those questions generated at the hearing.

It is the Commission's intent to have all the Postal Service witnesses called and excused by 4 p.m. ET.

One of the Postal Service's witnesses, Sharon Owens (Postal Service institutional witness), is not called and is excused. Likewise, the rebuttal witnesses, namely Anita Morrison, Stephen DeMatteo, and Douglas Carlson, are not called for the December 4 hearing.

The Postal Service shall file any corrected testimony, corrected designated written-cross examination, etc., applicable to the excused witnesses with a declaration/affidavit from the witness attesting to the proposed record material, no later than December 2, 2024. The Postal Service may move to admit these materials by written motion not later than December 4, 2024. Objections to the admission of the proposed record material for these excused witnesses are due not later than December 5, 2024.

On December 2, 2024, the Postal Service shall file a “Notice of Designated Materials” identifying any corrections to the testimony or designated materials for each witness sponsored by the Postal Service. Order No. 7695 at 26. Attached to that notice shall be an Adobe PDF file that contains the witness's designated written responses in alphabetical order by the name of the party propounding the interrogatory followed by numerical order of the interrogatory (with any corrections to the responses highlighted). The Postal Service shall also contemporaneously file any corrections to testimony (with those corrections highlighted).

Rebuttal testimony and all materials in support of the case must be filed by December 4, 2024.¹² Parties that wish to conduct oral cross-examination of a rebuttal witness shall file notice of an intent to do so by December 5, 2024. Written discovery (cross-examination) may be served on the parties offering rebuttal testimony immediately after filing of rebuttal testimony and must be filed no later than December 6, 2024. Parties must file a Notice of Designations, consistent with the procedure described above, should they wish to designate rebuttal case discovery responses for the record, no later than December 10, 2024. The Presiding Officer will issue a further ruling admitting designated materials into evidence shortly thereafter.

¹² See Order No. 7695 at 23-24. Any motion for leave to file a surrebuttal case remains due December 6, 2024. Id. at 24.

Due to the filing of a rebuttal case, the briefing schedule is also modified. Initial briefs or statements of positions are now due no later than December 18, 2024. Reply briefs may be filed no later than December 23, 2024.

IV. Ordering Paragraphs

It is ordered:

1. Douglas F. Carlson's Motion for Late Acceptance of Notice of Intent to File Rebuttal Case, filed November 25, 2024, is granted.

2. APWU's Motion for Late Acceptance of Notice of Intent to File Rebuttal Testimony, filed November 25, 2024, is granted.

3. The hearing on the Postal Service's direct case in the above-captioned docket shall commence at 10 a.m. ET on Wednesday, December 4, 2024, at the Commission's hearing room. The Postal Service shall make the identified witnesses available at the commencement of the hearing, consistent with the body of this Order.

4. If a witness with equivalent knowledge appears for Witness Whiteman, the Postal Service shall be prepared to admit Witness Whiteman's testimony by motion at the hearing.

5. Participants who wish to attend the hearing in-person must register via email consistent with the body of this Order.

6. The modified procedural schedule for this proceeding is set forth below the signature of this Order.

7. The Secretary shall arrange for publication of this Order in the Federal Register.

By the Commission.
Erica A. Barker,
Secretary.

Procedural Schedule for Docket No. N2024-1
[Modified by the Commission, November 27, 2024]
Deadlines in Preparation for Hearing:
Filing of Notice Confirming Intent to Conduct Oral Cross-Examination | November 22, 2024.
Filing of Request to Present Oral Argument | November 22, 2024.
Filing of Notice of Designations (Parties) | November 26, 2024.
Filing of Notices of Designated Materials (Postal Service) | December 2, 2024.
Rebuttal Case Deadlines:
Filing of Notice Confirming Intent to File a Rebuttal Case | November 22, 2024.
Filing of Rebuttal Case | December 4, 2024.
Filing of Notice Confirming Intent to Conduct Oral Cross-Examination | December 5, 2024.
Filing of Request to Present Oral Argument | December 5, 2024.
Last Filing of Discovery Requests | December 6, 2024.
Notice of Designations | December 10, 2024.
Filing of the Rebuttal Witness' Answers to Discovery | December 10, 2024.
Notice of Designated Materials | December 11, 2024.
Surrebuttal Case Deadlines (if applicable):
Filing of Motion for Leave to File Surrebuttal Case | December 6, 2024.
Filing of Response to Motion for Leave to File Surrebuttal Case | December 10, 2024.
Filing of Surrebuttal Case (if authorized) | December 13, 2024.
Hearing Dates:
Hearings | December 4-6, 2024.
Briefing Deadlines:
Filing of Initial Briefs (with Rebuttal Case) | December 18, 2024.
Filing of Reply Briefs (with Rebuttal Case) | December 23, 2024.
Statement of Position Deadline:
Filing of Statement of Position (with Rebuttal Case) | December 18, 2024.
Advisory Opinion Deadline:
Filing of Advisory Opinion | January 31, 2025.

[FR Doc. 2024-28306 Filed 12-2-24; 8:45 am]

BILLING CODE 7710-FW-P